DEPARTMENT OF THE INTERIOR

Fish and Wildlife Service

[FWS-R4-R-2008-N0032; 40136-1265-0000-S3]

Santee National Wildlife Refuge, Clarendon County, SC

AGENCY: Fish and Wildlife Service, Interior.

ACTION: Notice of availability: Draft comprehensive conservation plan and environmental assessment; request for comments.

SUMMARY: We, the Fish and Wildlife Service, announce the availability of a draft comprehensive conservation plan and environmental assessment (Draft CCP/EA) for Santee National Wildlife Refuge for public review and comment. In this Draft CCP/EA, we describe alternatives, including our proposed alternative to manage this refuge for the 15 years following approval of the Final CCP.

DATES: To ensure consideration, we must receive your written comments by July 30, 2008.

ADDRESSES: Requests for copies of the Draft CCP/EA should be addressed to: Van Fischer, Natural Resource Planner, South Carolina Lowcountry Refuge Complex, 5801 Highway 17 North, Awendaw, South Carolina 29429. A copy of the Draft CCP/EA is available on both compact disc and hard copy. You may also access and download a copy of the Draft CCP/EA at the Service's Internet Site: http://southeast.fws.gov/planning. Comments on the Draft CCP/EA may be submitted to the above address or via electronic mail to: van_fischer@fws.gov.

FOR FURTHER INFORMATION CONTACT: Van Fischer at 843/928-3264.

SUPPLEMENTARY INFORMATION:

Introduction

With this notice, we continue the CCP process for Santee National Wildlife Refuge. We started the process through a notice in the Federal Register on January 3, 2007 (72 FR 143).

The primary purpose of this 15,000-acre refuge, which was established in 1942, is to alleviate the loss of natural waterfowl and other wildlife habitat caused by the construction of hydro-electric power and navigational projects on the Santee and Cooper Rivers. The refuge lies within the Atlantic Coastal Plain and consists of mixed hardwoods, mixed pine hardwoods, pine plantations, marsh, croplands, old fields, ponds, impoundments, and open water.

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

CCP Alternatives, Including Our Proposed Alternative

We developed three alternatives for managing the refuge and chose Alternative C as the proposed alternative.

Alternatives

A full description of each alternative is in the Draft CCP/EA. We summarize each alternative below.

Alternative A: Current Management (No Action)

There would be no change from current management of the refuge. Management emphasis would continue to focus on maintaining existing managed wetlands for wintering waterfowl. Primary management activities would include managing wetland impoundments, basic species monitoring, wood duck banding, and planting corn for waterfowl. Alternative A would represent the anticipated conditions of the refuge for the next 15 years, assuming current resources, policies, programs, and activities continue. The other two alternatives are compared to this alternative in order to evaluate differences in future conditions compared to baseline management.

This alternative would reflect actions that include managing habitat for resident and wintering waterfowl and nesting bald eagles, maintaining upland and wetland forests, and repairing wetland impoundment control structures. Habitat management actions would benefit waterfowl; however, there would be limited active management of other species and habitats.

Management coordination would occur between the refuge and the State. Coordination would remain focused on waterfowl management, hunting, and fishing. Hunting and fishing would continue to follow State regulations. Wildlife-dependent recreational uses would be allowed with all areas opened to the public, with some areas only seasonally opened.

The refuge would remain staffed at current levels. Researchers would be accommodated when projects benefit the refuge.

Alternative B: Targeted Habitat Management Primarily for Waterfowl

This alternative would expand on Alternative A with a greater amount of active habitat management on the refuge. The focus of this alternative would be to enhance and expand suitable habitat under species-specific management, targeted to attract greater numbers of wintering waterfowl and breeding areas for resident wood ducks. The acreage of managed wetlands and agricultural fields would be increased to accommodate larger waterfowl numbers. Some open fields and scrub-shrub areas would be converted to wetlands or crops. Management of habitats for neotropical migratory and breeding songbirds would be greater than under Alternative A, but limited to maintaining existing areas suitable for these migratory species. There would be an increased effort to control invasive exotic plants.

This alternative would propose to increase monitoring efforts to focus primarily on waterfowl, with less effort to address other species. Monitoring efforts would only occur based on available resources and academic research.

Wildlife-dependent recreational uses of the refuge would continue. Hunting and fishing would continue to be allowed and environmental education and interpretation would be enhanced. Interpretive signage would be increased or added to existing nature trails. There would be restricted access to some areas of the refuge that have waterfowl and threatened or endangered species sensitive to disturbance. Interpretation efforts would focus mostly on the primary objective of waterfowl management.

The refuge would be staffed at current levels plus the addition of three biological technicians to carry out the increased habitat management and monitoring needs. Researchers would be accommodated when projects benefit the refuge and focus mostly towards waterfowl habitat and management.

Alternative C: Wildlife and Habitat Diversity (Proposed Alternative)

This alternative would expand on Alternative A, with a greater amount of effort to increase overall wildlife and habitat diversity. Although waterfowl would remain a focus of management, wetland habitat manipulations would also consider the needs of multiple species, such as marsh and wading birds. Under this alternative, upland forests and fields would be more actively managed for neotropical migratory songbirds than under Alternative B. Landscape level consideration of habitat management would include a diversity of open fields, upland and wetland forests, and additional managed wetlands. Multiple species consideration would include species and habitats identified by the South Atlantic Migratory Bird Initiative and the State's Strategic Conservation Plan.

This alternative would expand the monitoring efforts of Alternative A to provide additional monitoring of neotropical migratory and breeding songbirds, as well as resident species. Monitoring efforts would be increased with the assistance of additional staff, trained volunteers, and academic researchers. Greater effort would be made to recruit academic researchers to the refuge to study and monitor refuge resources.

Wildlife-dependent recreational uses of the refuge would continue. Hunting and fishing would continue to be allowed. However, hunting would be managed with a greater focus on achieving the biological needs of the refuge, such as controlling the deer population. Education and interpretation would be the same as Alternative A, but with additional education and outreach efforts aimed at the importance of landscape and diversity. A much broader effort would be made with outreach to nearby developing urban communities.

The refuge would be staffed at current levels plus an additional three to four staff members to carry out the increased habitat management and monitoring needs. Greater emphasis would be placed on recruiting and training volunteers. Refuge biological programs would actively seek funding for studies dealing primarily with management-orientated research needs. Refuge staff would place greater emphasis on developing and maintaining active partnerships, including seeking grants to assist the refuge in reaching primary objectives.

Next Step

After this comment period ends, we will analyze the comments and address them in the form of a Final CCP and Finding of No Significant Impact.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Editorial Note: This document was received at the Office of the Federal Register on June 25, 2008.

Dated: February 8, 2008.
Cynthia K. Dohner,
Acting Regional Director.

[FR Doc. E8-14745 Filed 6-27-08; 8:45 am]

BILLING CODE 4310-55-P